DEPARTMENT OF DEFENSE

Office of the Secretary

[Docket ID: DoD-2025-OS-0017]

Submission for OMB Review; Comment Request

AGENCY: The Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by September 24, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Disposition of Remains—Reimbursable Basis and Request for Payment of Funeral and/or Interment Expense, DD Forms 2065 and 1375; OMB Control Number 0704-0030.

Type of Request: Extension.

Number of Respondents: 2,450.

Responses per Respondent: 1.

Annual Responses: 2,450.

Average Burden per Response: 30 minutes.

Annual Burden Hours: 1,225.

Needs and Uses: This collection is needed to support our service members and other federal agencies by providing mortuary services, transportation, funeral and interment, support for deceased dependents of our service members; and transportation and mortuary service support requested by other federal agencies. This also allows the person authorized to direct disposition of our service members' remains to be reimbursed for authorized expenses incident to death.

The DD Form 2065 records the sponsor's disposition instructions for the remains and to record the associated cost for necessary services and supplies. If the remains are shipped to the United States, the sponsor will be required to complete and sign DD Form 2065, selecting one of three options. A signed copy of this form will accompany the remains to the port mortuary. The DD Form 2065 is presented to the sponsor by the Casualty Assistance Officer (CAO) who will aid the sponsor in the completion of the DD Form 2065. Once the form is completed, the CAO will return the completed form to Service Casualty Office (SCO). The sponsor will then submit payment to the Army budget office by a vehicle of their choosing. The SCO will then upload the DD Form 2065 in the Defense Casualty Information Processing System (DCIPS). The sponsor is typically a family member of the deceased. The Privacy Act Statement is on the form, and this is how respondents are notified of the appropriate disclosures.

The DD Form 1375 is the form on which payment of interment allowance will be requested. The DD Form 1375 is presented to the sponsor by the CAO who will aid the sponsor in the completion of the DD Form 1375. The sponsor is typically a family member of the deceased. Once the form is completed the CAO will return the completed form to the SCO. The claim must be signed by the claimant and include all documents e.g., receipts for services performed or paid for. The Military Service will then adjudicate the claim and process the payment to the sponsor. The Military Service will upload the DD Form 1375 claim packet into DCIPS. The Privacy Act Statement is on the form, and this is how respondents are notified of the appropriate disclosures.

Affected Public: Individuals or households.

Frequency: As required.

Respondent's Obligation: Voluntary.

DoD Clearance Officer: Mr. Reginald Lucas.

Dated: August 20, 2025.
Stephanie J. Bost,
Alternate OSD Federal Register Liaison Officer, Department of Defense.

[FR Doc. 2025-16174 Filed 8-22-25; 8:45 am]

BILLING CODE 6001-FR-P